DEPARTMENT OF AGRICULTURE

Rural Housing Service

Notice of Funding Availability (NOFA) for Section 515 Rural Rental Housing Funds and Section 521 Rental Assistance for Needs Resulting From Hurricanes Dennis, Floyd, and Irene; Extension of Application Deadline

AGENCY: Rural Housing Service (RHS), USDA.

ACTION: Notice of extension of application deadline.

SUMMARY: The Rural Housing Service (RHS) extends the deadline for submitting applications for section 515 funds and section 521 rental assistance for needs resulting from hurricanes Dennis, Floyd, and Irene announced in a notice of funding availability (NOFA) published August 18, 2000 (65 FR 50497). This action is taken to provide additional information on the source and type of funds that RHS considers leveraged assistance and to give applicants the opportunity to adjust their applications based on this information. Finally, this extension will allow eligible entities additional time to submit applications.

DATES: Accordingly, the deadline for submitting applications under the notice published August 18, 2000 (65 FR 50497), is extended to 5:00 p.m. local time for each Rural Development State office on December 11, 2000. The application deadline is firm as to date and hour. Applicants intending to mail applications must provide sufficient time to permit delivery on or before the closing deadline date and time. Acceptance by a post office or private mailer does not constitute delivery. Facsimile (FAX) and postage due applications will not be accepted.

FOR FURTHER INFORMATION CONTACT: For general information, applicants may contact Linda Armour, Senior Loan Officer, Multi-Family Housing Processing Division, Rural Housing Service, United States Department of Agriculture, Stop 0781, 1400 Independence Avenue, SW, Washington, DC, 20250, telephone (202) 720-1753 (voice) (this is not a toll free number) or (800) 877-8339 (TDD-Federal Information Relay Service).

SUPPLEMENTARY INFORMATION:

Background and Discussion of Extension of Application Deadline

RHS published a Notice of Funding Availability (NOFA) on August 18, 2000 (65 FR 50497), with an application deadline of October 17, 2000. Upon reviewing applications received, RHS determined that the NOFA was ambiguous regarding the source and type of funds that RHS considers leveraged assistance. From the applications received, RHS determined that applicants interpreted this ambiguity in different ways.

Therefore, to clarify this issue, applicants are hereby advised that leveraged assistance includes loans and grants from other sources, contributions from the applicant above the required contribution indicated by the Sources and Uses Comprehensive Evaluation (available from the Rural Development State Office) and tax abatements or other savings in operating costs provided that, at the end of the abatement period when the benefit is no longer available, the basic rents are comparable to or lower than the basic rents if RHS provided full financing. The required applicant contribution is not considered leveraged assistance.

RHS has also determined that some, but not all, applicants received a copy of the worksheet used by RHS to calculate the point score for leveraged assistance. To ensure that all applicants are treated fairly, applicants who submitted an application under the notice published August 18, 2000 will be provided with a copy of this Notice and the worksheet used by RHS to calculate leveraged assistance. Applicants who wish to adjust their application based on this additional information must re-submit their application by the extension deadline published in this Notice. Finally, this extension will allow eligible entities additional time to submit applications. Such entities may contact the Rural Development State office to obtain a copy of the worksheet used by RHS to calculate leveraged assistance.

Dated: November 17, 2000.
James C. Kearney,
Administrator, Rural Housing Service.

[FR Doc. 00-30233 Filed 11-24-00; 8:45 am]

BILLING CODE 3410-XV-U